NUCLEAR REGULATORY COMMISSION

[Docket No. 72-1050; NRC-2016-0231]

Interim Storage Partners, LLC; WCS Consolidated Interim Storage Facility; Issuance of Materials License and Record of Decision

AGENCY: Nuclear Regulatory Commission.

ACTION: License and record of decision; issuance.

SUMMARY: The U.S. Nuclear Regulatory Commission (NRC) has issued Materials License No. SNM-2515 to Interim Storage Partners, LLC (ISP) to construct and operate the WCS Consolidated Interim Storage Facility (CISF) as proposed in its license application, as amended, and to receive, possess, store, and transfer spent nuclear fuel and Greater-than-Class-C radioactive waste at the WCS CISF in Andrews County, Texas. ISP will be required to operate under the conditions listed in Materials License No. SNM-2515. The NRC staff has published a record of decision (ROD) that supports the NRC's decision to approve ISP's license application for the WCS CISF and to issue the license.

DATES: September 17, 2021.

ADDRESSES: Please refer to Docket ID NRC-2016-0231 when contacting the NRC about the availability of information regarding this document. You may access publicly available information related to this document using any of the following methods:

• Federal Rulemaking Website: Go to https://www.regulations.gov and search for Docket ID NRC-2016-0231. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the section of this document entitled, SUPPLEMENTARY INFORMATION.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: John-Chau Nguyen, Office of Nuclear Material Safety and Safeguards, U.S. Nuclear Regulatory Commission, Washington, DC 20555-0001; telephone: 301-415-0262; email: John-Chau.Nguyen@nrc.gov.

SUPPLEMENTARY INFORMATION:

I. Discussion

The NRC has issued a license to ISP for its WCS CISF in Andrews County, Texas (ADAMS Package Accession No. ML21188A096). Materials License No. SNM-2515 authorizes ISP to construct and operate its facility as proposed in its license application, as amended, and to receive, possess, store, and transfer spent nuclear fuel, including a small quantity of mixed-oxide fuel, and Greater-than-Class-C radioactive waste at the WCS CISF. The license authorizes ISP to store up to 5,000 metric tons of uranium [5,500 short tons] of spent nuclear fuel for a license period of 40 years. ISP will be required to operate under the conditions listed in Materials License No. SNM-2515.

The NRC staff's ROD that supports the NRC's decision to approve ISP's license application for the WCS CISF and to issue Materials License No. SNM-2515 is available in ADAMS under Accession No. ML21222A214. The ROD satisfies the regulatory requirement in section 51.102 paragraph (a) of title 10 of the Code of Federal Regulations (10 CFR), which requires that a Commission decision on any action for which a final environmental impact statement (EIS) has been prepared be accompanied by or include a concise public ROD. As discussed in the ROD and the final EIS for ISP's license application for a CISF for spent nuclear fuel in Andrews County, Texas (ADAMS Accession No. ML21209A955), the NRC staff considered a range of reasonable alternatives that included the No-Action alternative, as required by the National Environmental Policy Act of 1969, as amended; storage at a government-owned CISF; alternative design and storage technologies; and alternative locations. The final EIS documents the environmental review, including the NRC staff's recommendation to issue an NRC license to ISP to construct and operate a CISF for spent nuclear fuel at the proposed location, subject to the determinations in the NRC staff's safety review of the application. The final EIS conclusion is based on the NRC staff's independent environmental review, as well as (i) the license application, which includes the environmental report and supplemental documents and ISP's responses to the NRC staff's requests for additional information; (ii) consultation with Federal, State, Tribal, and local agencies and input from other stakeholders, including members of the public; and (iii) the assessments provided in the final EIS.

The NRC staff prepared a final safety evaluation report that documents the staff's safety and security review of the application (ADAMS Accession No. ML21188A101). The staff's safety and security review found that the application met applicable NRC regulations in 10 CFR part 72, “Licensing Requirements for the Independent Storage of Spent Nuclear Fuel, High-Level Radioactive Waste, and Reactor-Related Greater than Class C Waste.”

Documents related to the application carry Docket ID NRC-2016-0231. These documents for the ISP license include the license application, the applicant's safety analysis report, emergency plan, physical security plan, environmental report, updates to these documents, and applicant supplements and responses to NRC staff requests for additional information, and the NRC staff's final safety evaluation report, final EIS, and ROD.

ISP's request for a materials license was previously noticed in the Federal Register on November 14, 2016 (81 FR 79531). A notice of docketing with an opportunity to request a hearing and to petition for leave to intervene was published in the Federal Register on January 30, 2017 (82 FR 8773). Four groups of petitioners filed petitions to intervene. An Atomic Safety and Licensing Board considered petitions and admitted one contention. The Board subsequently dismissed the contention as moot after ISP supplemented its application with information that the contention had noted was missing, and the Board subsequently terminated the adjudicatory proceeding. Intervenors appealed the decisions to the Commission, and the Commission affirmed the Board decisions, with one new contention remanded to the Board for consideration. The Board subsequently dismissed the remanded contention, and the Commission denied an appeal of the Board decision.

In issuing a materials license to ISP for the WCS CISF, the NRC has determined based on its review of this application that there is reasonable assurance that: (i) The activities authorized by the license can be conducted without endangering the health and safety of the public; and (ii) these activities will be conducted in compliance with the applicable regulations of 10 CFR part 72. The NRC has further determined that the issuance of the license will not be inimical to the common defense and security.

In accordance with 10 CFR 2.390 of the NRC's “Rules of Practice,” the details with respect to this action, including the final safety evaluation report and accompanying documentation and license, are available electronically in the ADAMS Public Documents collection at https://www.nrc.gov/reading-rm/adams.html. From this site, you can access ADAMS, which provides text and image files of the NRC public documents.

II. Availability of Documents

The documents identified in the following table are available to interested persons through one or more of the following methods, as indicated.

Document | ADAMS accession No.
1. Initial application, safety analysis report (SAR) and environmental report (ER), dated April 28, 2016 | ML16133A070 (Package).
2. Application Revision 1, SAR Revision 1, and ER Revision 1, dated March 16, 2017 | ML17082A021 (Package).
3. Application Revision 2, SAR Revision 2, and ER Revision 2, dated July 19, 2018 | ML18206A595 (Package).
4. ER Revision 3, dated February 17, 2020 | ML20052E144 (Package).
5. SAR Revision 3, dated May 22, 2020 | ML20150A337 (Package).
6. Application Revision 3, dated August 24, 2020 | ML20237F470.
7. SAR Revision 4, September 2, 2020 | ML20261H419 (Package).
8. Application Revision 4 and SAR Revision 5, dated April 12, 2021 | ML21105A766 (Package).
9. Applicant response to request for additional information, dated July 19, 2018 | ML18208A437.
10. Applicant response to request for additional information, dated January 7, 2019 | ML19009A099.
11. Applicant response to request for additional information, dated March 22, 2019 | ML19085A055.
12. Applicant response to request for additional information, dated May 31, 2019 | ML19156A048 (Package).
13. Applicant response to request for additional information, dated June 26, 2019 | ML19197A044.
14. Applicant response to request for additional information, dated June 28, 2019 | ML19184A159 (Package).
15. Applicant response to request for additional information, dated June 28, 2019 | ML19190A227 (Package).
16. Applicant response to request for additional information, dated July 31, 2019 | ML19217A231 (Package).
17. Applicant response to request for additional information, dated August 20, 2019 | ML19235A157 (Package).
18. Applicant response to request for additional information, dated September 18, 2019 | ML19270E399.
19. Applicant submittal of supplemental information, dated September 20, 2019 | ML19268A113 (Package).
20. Applicant response to request for additional information, dated November 21, 2019 | ML19337B502 (Package).
21. Applicant response to request for additional information, dated January 6, 2020 | ML20015A448 (Package).
22. Applicant response to request for additional information, dated January 17, 2020 | ML20028E843 (Package).
23. Applicant response to request for additional information, dated January 22, 2020 | ML20028D890 (Package).
24. Applicant response to request for additional information, dated February 14, 2020 | ML20052D995 (Package).
25. Applicant response to request for additional information, dated February 14, 2020 | ML20052E047 (Package).
26. Applicant submittal of supplemental information, dated March 5, 2020 | ML20071F152 (Package).
27. Applicant response to request for additional information, dated March 16, 2020 | ML20083J964 (Package).
28. Applicant response to request for additional information, dated April 7, 2020 | ML20105A133 (Package).
29. Applicant response to request for additional information, dated April 7, 2020 | ML20105A171 (Package).
30. Applicant response to request for additional information, dated May 18, 2020 | ML20139A173 (Package).
31. Applicant response to request for additional information, dated June 11, 2020 | ML20163A008.
32. Applicant submittal of supplemental information, dated July 21, 2020 | ML20203M040.
33. Applicant submittal of supplemental information, dated January 27, 2021 | ML21027A147.
34. Draft Environmental Impact Statement, dated May 2020 | ML20122A220.
35. Overview of the Draft Environmental Impact Statement, dated May 2020 | ML20121A016.
36. Overview of the Draft Environmental Impact Statement (Spanish language version), dated May 2020 | ML20136A148.
37. Final Environmental Impact Statement, dated July 2021 | ML21209A955.
38. Overview of the Final Environmental Impact Statement, dated July 2021 | ML21200A050.
39. Final Safety Evaluation Report, dated September 2021 | ML21188A101.
40. NRC Staff's Record of Decision, dated September 13, 2021 | ML21222A214.
41. Materials License for ISP, dated September 13, 2021 | ML21188A096 (Package).

Dated: September 13, 2021.
For the Nuclear Regulatory Commission.
Shana R. Helton,
Director, Division of Fuel Management, Office of Nuclear Material Safety and Safeguards.

[FR Doc. 2021-20092 Filed 9-16-21; 8:45 am]

BILLING CODE 7590-01-P